DEPARTMENT OF JUSTICE

Office of Justice Programs

[OJP (NIJ) Docket No. 1518]

NIJ Body Armor Compliance Testing Program Workshop

AGENCY: National Institute of Justice.

ACTION: Notice of meeting.

SUMMARY: The National Institute of Justice (NIJ) is hosting a Body Armor Compliance Testing Program Workshop for manufacturers and test laboratories on Tuesday, May 18, 2010, from 8 a.m. to 3 p.m. NIJ is hosting this workshop specifically to update manufacturers and test laboratories with regard to the Compliance Testing Program, status of testing, administrative clarifications, and the follow-up inspection and testing process. This will be an open forum and there will ample opportunities for attendees to ask questions. Participants are strongly encouraged to come prepared to ask questions.

Space is limited at this workshop, and as a result, only 100 participants will be allowed to register. We request that each manufacturer and test laboratory limit their representatives to no more than two per organization. Exceptions to this limit may occur, should space allow. Participants planning to attend are responsible for their own travel arrangements. Please use the following http://www.justnet.org/Pages/RecordView.aspx?itemid=2396 to see an agenda and obtain the registration form to attend the Workshop. You will receive a response to your request within 2 business days.

DATES: The meeting will be held from 8 a.m. to 3 p.m.

ADDRESSES: Westin Annapolis Hotel, 100 Westgate Circle, Annapolis, MD 21401.

FOR FURTHER INFORMATION CONTACT: Jennifer O'Connor, by telephone at 202-307-0070 [Note: this is not a toll-free telephone number], or by e-mail at Jennifer.O'Connor@usdoj.gov.

Kristina Rose,
Acting Director, National Institute of Justice.

[FR Doc. 2010-10922 Filed 5-7-10; 8:45 am]

BILLING CODE 4410-18-P